NUCLEAR REGULATORY COMMISSION

[Docket No. 50-440; NRC-2010-0124]

FirstEnergy Nuclear Operating Company; Perry Nuclear Power Plant; Environmental Assessment and Finding of No Significant Impact

The U.S. Nuclear Regulatory Commission (NRC) is considering issuance of an Exemption, pursuant to Title 10 of the Code of Federal Regulations (10 CFR) section 73.5, “Specific exemptions,” from the implementation date for certain new requirements of 10 CFR part 73, “Physical protection of plants and materials,” for Facility Operating License No. NPF-58, issued to FirstEnergy Nuclear Operating Company (FENOC, the licensee), for operation of the Perry Nuclear Power Plant, Unit 1 (PNPP), located in Ottawa County, Ohio. Therefore, as required by 10 CFR 51.21, the NRC performed an environmental assessment. Based on the results of this environmental assessment, the NRC is issuing a finding of no significant impact.

Environmental Assessment

Identification of the Proposed Action

The proposed action would exempt the PNPP from the required implementation date of March 31, 2010, for a certain new requirement of 10 CFR part 73. Specifically, PNPP would be granted an exemption from being in full compliance with certain new requirements contained in 10 CFR 73.55 by the March 31, 2010, deadline. FENOC has proposed an alternate full compliance date of November 25, 2010, approximately 8 months beyond the date required by 10 CFR part 73. The proposed action, an extension of the schedule for completion of certain actions required by the revised 10 CFR part 73, does not involve any physical changes to the reactor, fuel, plant structures, support structures, water or land at the PNPP site.

The proposed action is in accordance with the licensee's application dated November 30, 2009 (Agencywide Documents Access and Management System (ADAMS) Accession No. ML093370151, not publically available, contains security-related information), as supplemented on December 23, 2009 (ADAMS Accession No. ML093650293, not publically available, contains security-related information).

The Need for the Proposed Action

The proposed action is needed to provide the licensee with additional time to perform to design the necessary modifications, procure equipment and material, and implement upgrades to comply with a specific aspect of 10 CFR 73.55.

Environmental Impacts of the Proposed Action

The NRC has completed its evaluation of the proposed exemption. The staff has concluded that the proposed action to extend the implementation deadline would not significantly affect plant safety and would not have a significant adverse effect on the probability of an accident occurring.

The details of the staff's safety evaluation will be provided in the exemption that will be issued as part of the letter to the licensee approving the exemption.

The proposed action would not result in an increased radiological hazard beyond those previously analyzed in the environment assessment and finding of no significant impact made by the Commission in promulgating its revisions to 10 CFR part 73 as discussed in a Federal Register notice dated March 27, 2009 (74 FR 13967). There will be no change to radioactive effluents that effect radiation exposures to plant workers and members of the public. Therefore, no changes or different types of radiological impacts are expected as a result of the proposed exemption.

The proposed action does not result in changes to land use or water use, or result in changes to the quality or quantity of non-radiological effluents. No changes to the National Pollution Discharge Elimination System permit are needed. No effects on the aquatic or terrestrial habitat in the vicinity of the plant, or to threatened, endangered, or protected species under the Endangered Species Act, or impacts to essential fish habitat covered by the Magnuson-Steven's Act are expected. There are no impacts to the air or ambient air quality.

There are no impacts to historical and cultural resources. There would be no impact to socioeconomic resources. Therefore, no changes to or different types of non-radiological environmental impacts are expected as a result of the proposed exemption.

Accordingly, the NRC concludes that there are no significant environmental impacts associated with the proposed action. In addition, in promulgating its revisions to 10 CFR part 73, the Commission prepared an environment assessment and published a finding of no significant impact (part 73, Power Reactor Security Requirements, 74 FR 13926, 13967 (March 27, 2009)).

The NRC staff's safety evaluation will be provided in the exemption that will be issued as part of the letter to the licensee approving the exemption to the regulation, if granted.

Environmental Impacts of the Alternatives to the Proposed Action

As an alternative to the proposed action, the staff considered denial of the proposed action (i.e., the “no-action” alternative). Denial of the application would result in no change in current environmental impacts. If the proposed action was denied, the licensee would have to comply with the March 31, 2010, implementation deadline. The environmental impacts of the proposed action and the “no-action” alternative action are similar.

Alternative Use of Resources

The action does not involve the use of any different resources than those previously considered in the Final Environmental Statement, NUREG-0884 dated August 1982, for the PNPP.

Agencies and Persons Consulted

In accordance with its stated policy, on February 24, 2009, the staff consulted with the Ohio State official, Ms. Carol O'Claire of the Ohio Emergency Management Agency, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated November 30, 2009, as supplemented on December 23, 2009. Documents may be examined, and/or copied for a fee, at the NRC's Public Document Room (PDR), located at One White Flint North, Room O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr.resource@nrc.gov.

Dated at Rockville, Maryland, this 18th day of March 2010.
For the Nuclear Regulatory Commission.
Michael Mahoney,
Project Manager, Plant Licensing Branch III-2, Division of Operating Reactor Licensing, Office of Nuclear Reactor Regulation.

[FR Doc. 2010-6751 Filed 3-25-10; 8:45 am]

BILLING CODE 7590-01-P